ENVIRONMENTAL PROTECTION AGENCY

[FRL-7537-6]

Science Advisory Board Staff Office; Request for Nominations for a U.S. Environmental Protection Agency Science Advisory Board Ad Hoc Committee To Be Known as the Homeland Security Advisory Committee (HSAC)

AGENCY: Environmental Protection Agency (EPA).

ACTION: Notice.

SUMMARY: The EPA Science Advisory Board (SAB) Staff Office announces the formation of a new SAB ad hoc Committee on Homeland Security known as the Homeland Security Advisory Committee (HSAC), and is soliciting nominations for members of the Committee.

DATES: Nominations should be submitted in time to arrive by August 20, 2003.

ADDRESSES: Nominations should be submitted in electronic format through the Form for Nominating Individuals to Panels of the EPA Science Advisory Board provided on the SAB Web site. The form can be accessed through a link on the blue navigational bar on the SAB Web site, www.epa.gov/sab. To be considered, all nominations should include the information requested on that form. Anyone who is unable to access nominations on the SAB Web site can obtain a paper copy of the form by contacting Dr. Philip Sayre, Designated Federal Officer (DFO), as indicated below.

FOR FURTHER INFORMATION CONTACT: Any member of the public wishing further information regarding this Request for Nomination may contact Dr. Philip Sayre, by telephone/voice mail at (202) 564-7673, or via e-mail at sayre.phil@epa.gov. Those unable to access the nomination forms through the above Web site can contact Dr. Sayre at the following address: Philip Sayre, Ph.D., Science Advisory Board Staff Office, U.S. Environmental Protection Agency (Mail Code 1400A), Suite 6450-R, 1200 Pennsylvania Avenue, NW., Washington, DC 20460-0001. General information about the SAB can be found in the SAB Web site at http://www.epa.gov/sab.

SUPPLEMENTARY INFORMATION: Summary: The EPA SAB Staff Office is announcing the formation of a new ad hoc Committee to help provide advice through the SAB to the Administrator, and other officials in the U.S. Environmental Protection Agency on matters pertaining to EPA's mission in protecting against the environmental and health consequences of terrorism. The SAB Staff Office is soliciting nominations for members of the new Committee.

This Committee is being formed to help provide advice to the Agency, as part of the SAB's mission, established by 42 U.S.C. 4365, to provide independent scientific and technical advice, consultation, and recommendations to the EPA Administrator on the technical bases for EPA regulations.

The work of this Committee is expected to continue for approximately two to three years; the background for the effort is described below. Committee members will help provide advice to the Agency through the SAB. The EPA Administrator may determine that a particular HSAC meeting be partially or fully closed when matters under discussion are covered by one of the Government in the Sunshine Act (5 U.S.C. 552b) open meeting exceptions. The SAB is a chartered Federal Advisory Committee that reports directly to the Administrator.

The HSAC will comply with the openness provisions of the Federal Advisory Committee Act (FACA) and all appropriate SAB procedural policies, including the SAB process for panel formation described in the EPA Science Advisory Board (SAB) Panel Formation Process: Immediate Steps To Improve Policies and Procedures—An SAB Commentary (EPA-SAB-EC-COM-002-003), http://www.epa.gov/sab/pdf/ecm02003.pdf.

Background: EPA is supporting the President's National Strategy for Homeland Security and the new Department of Homeland Security in specific areas. In keeping with EPA's traditional mission of protecting human health and the environment, the Agency's mission includes protection of the country against the environmental and health consequences of acts of terrorism. EPA is responsible for assisting public and private utilities in securing the nation's drinking and wastewater infrastructure, for assisting those responsible for indoor air, for working with the Department of Homeland Security to support the enhancement of security for our chemical industry and hazardous materials sector, and for responding to and recovering from acts of biological, chemical, certain radiological, and other terrorist attacks. For example, recently EPA has monitored environmental conditions to help protect workers in and around the World Trade Center, and developed and implemented a plan for decontaminating the Hart Senate Office Building. For more information on the EPA Homeland Security Strategic Plan, please see http://www.epa.gov/epahome/headline_100202.htm.

The EPA organizations involved in implementation of Homeland Security include the following: The Office of Research and Development (ORD); the Office of Water (OW); the Office of Solid Waste and Emergency Response (OSWER); the Office of Air and Radiation (OAR); the Office of Pesticides, Prevention, and Toxic Substances (OPPTS); the Office of Environmental Information (OEI); and the Office of Enforcement and Compliance Assurance (OECA). Further, two new organizations within EPA have been formed to address homeland security matters: the Office of Homeland Security (OHS) which coordinates activities across the Agency, and the Office of Research and Development's (ORD's) National Homeland Security Research Center (NHSRC). The NHSRC has a 3-year mission to provide appropriate, effective and rapid risk assessment guidelines and technologies to help decision-makers prepare for, detect, contain, and decontaminate chemical and biological attacks directed against buildings and water treatment systems.

The Agency has asked the EPA Science Advisory Board to form an expert group to advise senior managers on matters related to homeland security. Examples of consultations for the Committee could include the following: (1) Detection and characterization of contaminants in water and air, response and mitigation, and prevention and protection; (2) improvements to rapid risk assessment for terrorist agents such as development of information systems and tools, risk estimates and risk communication methodologies; and (3) verification of the performance of technologies that can be used to monitor and ensure the quality of the nation's drinking water supplies, and technologies for use in monitoring indoor environments.

Charge to the Panel: When specific issues are identified for SAB advice, a charge to the Panel and the initiation of SAB HSAC activities will be announced on the SAB Web site at http://www.epa.gov/sab/panels/paneltopics.html.

Request for Nominations: The EPA SAB Staff Office requests nominations of individuals who are regarded as national and international level experts in homeland security to serve as Committee members. Areas of expertise sought include at least the following: (a) Atmospheric sciences and air modeling; (b) engineering expertise for the design and operation of building systems for air treatment and handling; (c) engineering expertise for the design and operation of water treatment and dispersal systems; (d) analytical chemistry for chemical detection methodologies; (e) microbiology related to detection techniques for microbial pathogens; (f) expertise in inactivation and disposal techniques for bulk amounts of materials containing chemical, radiological, and biological agents; (g) radiation health; (h) toxicology; (i) clinical toxicology; (j) microbial pathology; (k) epidemiology; and (l) risk assessment.

Process and Deadline for Submitting Nominations: Any interested person or organization may nominate qualified individuals to serve as committee members in the areas described above. The nominating form requests contact information about the person making the nomination; contact information about the nominee; the disciplinary and specific areas of expertise of the nominee; the nominee's resume; and a general biosketch of the nominee indicating education, expertise, past research, recent service on other advisory committees or with professional associations, and recent grant and/or contract support.

Anyone who is unable to submit nominations through the SAB Web site, or has questions concerning any aspect of the nomination process, may contact Dr. Philip Sayre as indicated above in this FR notice. Nominations should be submitted in time to arrive no later than August 20, 2003.

The EPA Science Advisory Board Staff Office will acknowledge receipt of the nominations. From the nominees identified by respondents to this Federal Register notice and through other sources (termed the “Widecast”), SAB Staff Office will develop a smaller subset (known as the “Short List”) for more detailed consideration. Criteria used by the SAB Staff Office in developing this Short List are given at the end of the following paragraph. The SAB Staff Office will contact individuals who are considered for inclusion in the Short List to determine whether they are willing to serve on the Committee. The Short List will be posted on the SAB Web site at: http://www.epa.gov/sab, and will include, for each candidate, the nominee's name and their biosketch. The Short List also will be available from Dr. Sayre at the address listed above. Public comments will be accepted for 21 calendar days on the Short List. During this comment period, the public will be requested to provide information, analysis or other documentation on nominees that the SAB Staff Office should consider in evaluating candidates for the Committee.

For the EPA SAB, a balanced Committee is characterized by inclusion of candidates who possess the necessary domains of knowledge, the relevant scientific perspectives (which, among other factors, can be influenced by work history and affiliation), and the collective breadth of experience to adequately address the charge. Public responses to the Short List candidates will be considered in the selection of the Committee members, along with information provided by candidates and information gathered by EPA SAB Staff Office independently on the background of each candidate (e.g., financial disclosure information and computer searches to evaluate a nominee's prior involvement with the topic under review). Specific criteria to be used in evaluating individual nominees include: (a) Scientific and/or technical expertise, knowledge, and experience (primary factors); (b) absence of financial conflicts of interest; (c) scientific credibility and impartiality; (d) availability and willingness to serve; and (e) ability to work constructively and effectively in committees.

Those Short List candidates ultimately chosen to serve on the Committee will be appointed as Special Government Employees. Therefore, all Short List candidates will be required to fill out the “Confidential Financial Disclosure Form for Special Government Employees Serving on Federal Advisory Committees at the U.S. Environmental Protection Agency” (EPA Form 3110-48). This confidential form allows Government officials to determine whether there is a statutory conflict between that person's public responsibilities as a Special Government Employee and private interests and activities, or the appearance of a lack of impartiality, as defined by Federal regulation. The form may be viewed and downloaded from the following URL address: http://www.epa.gov/sab/pdf/epaform3110-48.pdf. Finally, some members may need to complete national security clearance forms to obtain access to sensitive or classified homeland security information. Committee members will likely be asked to attend one to two meetings and public conferences per year over the anticipated course of the advisory activity.

Dated: July 24, 2003.
Vanessa T. Vu,
Director, EPA Science Advisory Board Staff Office.

[FR Doc. 03-19352 Filed 7-29-03; 8:45 am]

BILLING CODE 6560-50-P